INTERNATIONAL TRADE COMMISSION

[USITC SE-17-031]

Government in the Sunshine Act Meeting Notice

AGENCY HOLDING THE MEETING: United States International Trade Commission.

DATE AND TIME: August 3, 2017 at 9:30 a.m.

PLACE: 500 E Street SW., Room 101, Washington, DC 20436, Telephone: (202) 205-2000.

STATUS: Open to the public.

Matters To Be Considered

1. Agendas for future meetings: None

2. Minutes

3. Ratification List

4. Vote in Inv. Nos. 731-TA-1334-1337 (Final)(Emulsion Styrene-Butadiene Rubber from Brazil, Korea, Mexico, and Poland). The Commission is currently scheduled to complete and file its determinations and views of the Commission by August 23, 2017.

5. Outstanding action jackets: None

In accordance with Commission policy, subject matter listed above, not disposed of at the scheduled meeting, may be carried over to the agenda of the following meeting.

By order of the Commission.
Issued: July 25, 2017.
William R. Bishop,
Supervisory Hearings and Information Officer.

[FR Doc. 2017-16032 Filed 7-26-17; 11:15 am]

BILLING CODE 7020-02-P